ENVIRONMENTAL PROTECTION AGENCY

[EPA-HQ-OPP-2012-0442; FRL-9382-5]

FIFRA Pesticide Registration Review and ESA Consultation Processes; Stakeholder Input; Notice of Availability

AGENCY: Environmental Protection Agency (EPA).

ACTION: Notice.

SUMMARY: EPA is announcing the availability of the final paper describing enhanced opportunities for stakeholder input during its review of pesticide registrations under the Federal Insecticide, Fungicide, and Rodenticide Act (FIFRA) and associated consultations under the Endangered Species Act (ESA). The paper was jointly prepared by EPA, the U.S. Department of Agriculture (USDA), and the National Marine Fisheries Service (NMFS) in the U.S. Department of Commerce and the U.S. Fish and Wildlife Service (USFWS) in the Department of Interior (collectively, the Services). The paper describes significant changes to EPA's registration review process intended to facilitate ESA pesticide consultations and coordination across these Federal agencies, and calls for a greater role for USDA. EPA accepted public comment on the proposed changes for 60 days, and then reviewed the comments received. Subsequently, EPA, USDA, and the Services revised the paper to outline specific roles and responsibilities for each agency, and to provide clarifying information on focus meetings and the timing for public input.

FOR FURTHER INFORMATION CONTACT: Richard P. Keigwin, Jr., Pesticide Re-evaluation Division (7501P), Office of Pesticide Programs, Environmental Protection Agency, 1200 Pennsylvania Ave. NW., Washington, DC 20460-0001; telephone number: (703) 308-8000; fax number: (703) 308-8005; email address: Keigwin.Richard@epa.gov.

SUPPLEMENTARY INFORMATION:

I. General Information

A. Does this action apply to me?

You may be potentially affected by this action if you manufacture, buy, sell, distribute, or use pesticide products.

B. How can I get copies of this document and other related information?

The docket for this action, identified by docket identification (ID) number EPA-HQ-OPP-2012-0442, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA is announcing the availability of a document titled, “Enhancing Stakeholder Input in the Pesticide Registration Review and ESA Consultation Processes and Development of Economically and Technologically Feasible Reasonable and Prudent Alternatives.” A copy of this document is available in the docket at http://www.regulations.gov under docket ID number EPA-HQ-OPP-2012-0442. The document describes changes to EPA's pesticide registration review program and how it conducts consultation with the Services under section 7 of the ESA. In an effort to be responsive to stakeholders' desires for a mechanism to get information into the registration review process as early as possible, EPA is holding “focus” meetings at the start of registration review for each active ingredient. In response to stakeholders' desires for a more open, reliable, and transparent pesticide consultation process, EPA will initiate any needed formal ESA consultations at a later stage in the review process. Consulting later in the registration review process allows EPA to develop more refined ecological risk assessments and to engage affected stakeholders in discussions that should result in more focused consultation packages inclusive of mitigation for listed species. There is a consensus that EPA and the Services should engage informally and early in the consultation process, but that formal consultation should be reserved until EPA's ecological risk assessment and proposed decision are more fully formed. This approach has the potential to maximize the opportunity to effect changes that provide protections for species and their designated critical habitat, lessen the impacts on agriculture, and narrow the scope of the Federal action.

Additionally, the document describes EPA's plans to reach out to pesticide users potentially affected to discuss the technological and economic feasibility of reasonable and prudent alternatives (RPAs) intended to avoid jeopardy to threatened and/or endangered species. The USDA's relationships with the agricultural community provide a critical link between EPA's expertise on pesticides and the Services' expertise on listed species' locations, status and biology.

Finally, the document describes the process by which public comments received on RPAs will be summarized and organized by EPA and provided to the Services, who will prepare a document to be included in the administrative record of the consultation explaining how comments were considered, and if appropriate, how the final biological opinion was modified to address the comments. The Services will provide the document to EPA, and both the Services and EPA will make the document available to the public upon request. These process changes are intended to provide clarity and transparency to the ESA section 7 consultation process for pesticides.

List of Subjects

Environmental protection, Endangered species, Pesticide registration review, Section 7 ESA consultation.

Dated: March 19, 2013.
Steven Bradbury,
Director, Office of Pesticide Programs.

[FR Doc. 2013-06920 Filed 3-26-13; 8:45 am]

BILLING CODE 6560-50-P